DEPARTMENT OF TRANSPORTATION

Federal Aviation Administration

14 CFR Part 97

[Docket No. 30622; Amdt. No. 3282]

Standard Instrument Approach Procedures, and Takeoff Minimums and Obstacle Departure Procedures; Miscellaneous Amendments

AGENCY: Federal Aviation Administration (FAA), DOT.

ACTION: Final rule.

SUMMARY: This Rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 3, 2008. The compliance date for each SIAP, associated Takeoff Minimums, and ODP is specified in the amendatory provisions.

The incorporation by reference of certain publications listed in the regulations is approved by the Director of the Federal Register as of September 3, 2008.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are Available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends title 14 of the Code of Federal Regulations, part 97 (14 CFR part 97), by Establishing, amending, suspending, or revoking SIAPS, Takeoff Minimums and/or ODPS. The complete regulators description of Each SIAP and its associated Takeoff Minimums or ODP for an Identified airport is listed on FAA form documents which are Incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. Thus, the advantages of incorporation by reference are realized and publication of the complete description of each SIAP, Takeoff Minimums and ODP listed on FAA forms is unnecessary. This amendment provides the affected CFR sections and specifies the types of SIAPs and the effective dates of the Associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on August 8, 2008.
James J. Ballough,
Director, Flight Standards Service.

Adoption of the Amendment

Accordingly, pursuant to the authority delegated to me, Under title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 28 AUG 2008

Manchester, NH, Manchester, ILS OR LOC/DME RWY 17, Amdt 1

Manchester, NH, Manchester, RNAV (GPS) Y RWY 17, Orig

Manchester, NH, Manchester, RNAV (RNP) Z RWY 17, Orig

Effective 25 SEP 2008

Anvik, AK, Anvik, GPS RWY 35, Orig, CANCELLED

Anvik, AK, Anvik, RNAV (GPS) RWY 17, Orig

Anvik, AK, Anvik, RNAV (GPS) RWY 35, Orig

Anvik, AK, Anvik, Takeoff Minimums and Obstacle DP, Orig

Galena, AK, Edward G. Pitka, SR, GPS RWY 07, Orig, CANCELLED

Galena, AK, Edward G. Pitka, SR, GPS RWY 25, Orig, CANCELLED

Galena, AK, Edward G. Pitka, SR, RNAV (GPS) RWY 7, Orig

Galena, AK, Edward G. Pitka, SR, RNAV (GPS) RWY 25, Orig

Huslia, AK, Huslia, RNAV (GPS) RWY 3, Amdt 2

Huslia, AK, Huslia, RNAV (GPS) RWY 21, Amdt 2

Huslia, AK, Huslia, Takeoff Minimums and Obstacle DP, Orig

Benton, AR, Saline County Regional, RNAV (GPS) RWY 2, Orig

Benton, AR, Saline County Regional, RNAV (GPS) RWY 20, Orig

Little Rock, AR, Adams Field, ILS OR LOC RWY 22L, Orig

Little Rock, AR, Adams Field, ILS OR LOC RWY 22R, ILS RWY 22R (CAT II), ILS RWY (CAT III), Amdt 2

Little Rock, AR, Adams Field, LOC RWY 22L, Orig, CANCELLED

Little Rock, AR, Adams Field, Takeoff Minimums and Obstacle DP, Amdt 8

Magnolia, AR, Magnolia Muni, RNAV (GPS) RWY 36, Amdt 1

Newport, AR, Newport Muni, GPS RWY 18, Orig-B, CANCELLED

Newport, AR, Newport Muni, GPS RWY 36, Orig-B, CANCELLED

Newport, AR, Newport Muni, RNAV (GPS) RWY 18, Orig

Newport, AR, Newport Muni, RNAV (GPS) RWY 36, Orig

Newport, AR, Newport Muni, Takeoff Minimums and Obstacle DP, Orig

Arcata/Eureka, CA, Arcata, GPS RWY 32, Orig, CANCELLED

Arcata/Eureka, CA, Arcata, RNAV (GPS) RWY 32, Orig

Burbank, CA, Bob Hope, RNAV (RNP) Z RWY 8, Orig

Merced, CA, Merced Muni/Macready Field, GPS RWY 30, Orig-B, CANCELLED

Merced, CA, Merced Muni/Macready Field, RNAV (GPS) RWY 30, Orig

Santa Barbara, CA, Santa Barbara Muni, RNAV (GPS) RWY 7, Orig-A

Truckee, CA, Truckee-Tahoe, Takeoff Minimums and Obstacle DP, Amdt 4

Aspen, CO, Aspen-Pitkin County/Sardy Field, Takeoff Minimums and Obstacle DP, Amdt 8

Denver, CO, Front Range, GPS RWY 35, Orig, CANCELLED

Denver, CO, Front Range, ILS OR LOC RWY 26, Amdt 4

Denver, CO, Front Range, NDB RWY 26, Amdt 4

Denver, CO, Front Range, RNAV (GPS) RWY 17, Orig

Denver, CO, Front Range, RNAV (GPS) RWY 26, Orig

Denver, CO, Front Range, RNAV (GPS) RWY 35, Orig

Rifle, CO, Garfield County Regional, GPS RWY 8, Orig-A, CANCELLED

Rifle, CO, Garfield County Regional, GPS RWY 26, Orig-A, CANCELLED

Rifle, CO, Garfield County Regional, ILS RWY 26, Amdt 1

Rifle, CO, Garfield County Regional, LOC/DME-A, Amdt 7

Rifle, CO, Garfield County Regional, RNAV (GPS) W RWY 26, Orig

Rifle, CO, Garfield County Regional, RNAV (GPS) X RWY 26, Orig

Rifle, CO, Garfield County Regional, RNAV (GPS) Y RWY 8, Orig

Rifle, CO, Garfield County Regional, RNAV (RNP) Y RWY 26, Orig

Rifle, CO, Garfield County Regional, RNAV (RNP) Z RWY 8, Orig

Rifle, CO, Garfield County Regional, RNAV (RNP) Z RWY 26, Orig

Rifle, CO, Garfield County Regional, VOR/DME-C, Amdt 1

Orlando, FL, Orlando Sanford Intl, RNAV (GPS) RWY 9L, Amdt 2

Orlando, FL, Orlando Sanford Intl, RNAV (GPS) RWY 9R, Orig

Orlando, FL, Orlando Sanford Intl, RNAV (GPS) RWY 27R, Amdt 1

Orlando, FL, Orlando Intl, Takeoff Minimums and Obstacle DP, Amdt 1

Palm Coast, FL, Flagler County, RNAV (GPS) RWY 6, Amdt 1

Palm Coast, FL, Flagler County, RNAV (GPS) RWY 11, Amdt 1

Tampa, FL, Tampa Intl, LOC RWY 36R, Amdt 2

Tampa, FL, Tampa Intl, RNAV (GPS) RWY 36R, Amdt 1

Gainesville, GA, Lee Gilmer Memorial, ILS OR LOC/DME RWY 5, Orig

Gainesville, GA, Lee Gilmer Memorial, LOC RWY 4, Amdt 5D, CANCELLED

Gainesville, GA, Lee Gilmer Memorial, RNAV (GPS) RWY 5, Amdt 1

Gainesville, GA, Lee Gilmer Memorial, RNAV (GPS) RWY 23, Amdt 1

Washington, GA, Washington-Wilkes County, RNAV (GPS) RWY 13, Amdt 1

Washington, GA, Washington-Wilkes County, RNAV (GPS) RWY 31, Amdt 1

Denison, IA, Denison Muni, NDB RWY 30, Amdt 6

Denison, IA, Denison Muni, RNAV (GPS) RWY 12, Amdt 1

Denison, IA, Denison Muni, RNAV (GPS) RWY 30, Amdt 1

Denison, IA, Denison Muni, Takeoff Minimums and Obstacle DP, Orig

Perry, IA, Perry Muni, GPS RWY 32, Orig-A, CANCELLED

Perry, IA, Perry Muni, RNAV (GPS) RWY 32, Orig

Perry, IA, Perry Muni, Takeoff Minimums and Obstacle DP, Orig

Chicago, IL, Chicago O'Hare Intl, ILS OR LOC RWY 10, ILS RWY 10 (CAT II), ILS RWY 10 (CAT III), Amdt 16

Chicago, IL, Chicago O'Hare Intl, ILS OR LOC RWY 28, ILS RWY 28 (CAT II), ILS RWY 28 (CAT III), Amdt 15

Chicago, IL, Chicago O'Hare Intl, RNAV (GPS) RWY 10, Amdt 3

Chicago, IL, Chicago O'Hare Intl, RNAV (GPS) RWY 28, Amdt 2

Pekin, IL, Pekin Muni, RNAV (GPS) RWY 9, Orig

Pekin, IL, Pekin Muni, RNAV (GPS) RWY 27, Orig

Pekin, IL, Pekin Muni, Takeoff Minimums and Obstacle DP, Orig

Pekin, IL, Pekin Muni, VOR-A, Amdt 7

Pekin, IL, Pekin Muni, VOR/DME RNAV OR GPS RWY 9, Amdt 5A, CANCELLED

Robinson, IL, Robinson Muni, RNAV (GPS) RWY 9, Orig

Robinson, IL, Robinson Muni, RNAV (GPS) RWY 27, Orig

Robinson, IL, Robinson Muni, Takeoff Minimums and Obstacle DP, Orig

Fort Wayne, IN, Fort Wayne International, RNAV (GPS) RWY 5, Amdt 1

Fort Wayne, IN, Fort Wayne International, RNAV (GPS) RWY 23, Amdt 2

Indianapolis, IN, Eagle Creek Airpark, RNAV (GPS) RWY 21, Orig

Indianapolis, IN, Indianapolis Executive, RNAV (GPS) RWY 18, Orig

Indianapolis, IN, Indianapolis Executive, RNAV (GPS) RWY 36, Orig

Indianapolis, IN, Indianapolis Executive, Takeoff Minimums and Obstacle DP, Orig

Indianapolis, IN, Indianapolis Executive, VOR RWY 36, Amdt 9

Indianapolis, IN, Indianapolis Executive, VOR/DME RWY 18, Orig

Rochester, IN, Fulton County, RNAV (GPS) RWY 11, Amdt 1

Rochester, IN, Fulton County, RNAV (GPS) RWY 29, Amdt 1

Rochester, IN, Fulton County, Takeoff Minimums and Obstacle DP, Orig

Covington, KY, Cincinnati/Northern Kentucky Intl, ILS OR LOC RWY 9, Amdt 18

Covington, KY, Cincinnati/Northern Kentucky Intl, ILS OR LOC RWY 18C, Amdt 22

Covington, KY, Cincinnati/Northern Kentucky Intl, ILS OR LOC RWY 18L, Amdt 7

Covington, KY, Cincinnati/Northern Kentucky Intl, ILS OR LOC RWY 18R; ILS RWY 18R (CAT II), Amdt 1

Covington, KY, Cincinnati/Northern Kentucky Intl, ILS OR LOC RWY 27, Amdt 17

Covington, KY, Cincinnati/Northern Kentucky Intl, ILS OR LOC RWY 36C; ILS RWY 36C (CAT II); ILS RWY 36C (CAT III), Amdt 41

Covington, KY, Cincinnati/Northern Kentucky Intl, ILS OR LOC RWY 36L; ILS RWY 36L, (CAT II), Amdt 1

Covington, KY, Cincinnati/Northern Kentucky Intl, ILS OR LOC RWY 36R; ILS RWY 36R (CAT II); ILS RWY 36R (CAT III), Amdt 8

Covington, KY, Cincinnati/Northern Kentucky Intl, RNAV (GPS) Y RWY 9, Amdt 1

Covington, KY, Cincinnati/Northern Kentucky Intl, RNAV (GPS) Y RWY 18C, Amdt 1

Covington, KY, Cincinnati/Northern Kentucky Intl, RNAV (GPS) Y RWY 18L, Amdt 1

Covington, KY, Cincinnati/Northern Kentucky Intl, RNAV (GPS) Y RWY 18R, Amdt 1

Covington, KY, Cincinnati/Northern Kentucky Intl, RNAV (GPS) Y RWY 27, Orig

Covington, KY, Cincinnati/Northern Kentucky Intl, RNAV (GPS) Y RWY 36C, Amdt 1

Covington, KY, Cincinnati/Northern Kentucky Intl, RNAV (GPS) Y RWY 36L, Amdt 1

Covington, KY, Cincinnati/Northern Kentucky Intl, RNAV (GPS) Y RWY 36R, Amdt 1

Covington, KY, Cincinnati/Northern Kentucky Intl, RNAV (RNP) Z RWY 9, Orig

Covington, KY, Cincinnati/Northern Kentucky Intl, RNAV (RNP) Z RWY 18C, Orig

Covington, KY, Cincinnati/Northern Kentucky Intl, RNAV (RNP) Z RWY 18L, Orig

Covington, KY, Cincinnati/Northern Kentucky Intl, RNAV (RNP) Z RWY 18R, Orig

Covington, KY, Cincinnati/Northern Kentucky Intl, RNAV (RNP) Z RWY 27, Orig

Covington, KY, Cincinnati/Northern Kentucky Intl, RNAV (RNP) Z RWY 36C, Orig

Covington, KY, Cincinnati/Northern Kentucky Intl, RNAV (RNP) Z RWY 36L, Orig

Covington, KY, Cincinnati/Northern Kentucky Intl, RNAV (RNP) Z RWY 36R, Orig

Henderson, KY, Henderson City-County, RNAV (GPS) RWY 9, Amdt 1

Henderson, KY, Henderson City-County, RNAV (GPS) RWY 27, Amdt 1

Louisville, KY, Louisville Intl-Standiford Fld, GPS RWY 17L, Orig, CANCELLED

Louisville, KY, Louisville Intl-Standiford Fld, GPS RWY 17R, Orig-A, CANCELLED

Louisville, KY, Louisville Intl-Standiford Fld, GPS RWY 35L, Orig-A, CANCELLED

Louisville, KY, Louisville Intl-Standiford Fld, GPS RWY 35R, Orig-A, CANCELLED

Louisville, KY, Louisville Intl-Standiford Fld, ILS OR LOC RWY 17L, Amdt 3

Louisville, KY, Louisville Intl-Standiford Fld, ILS OR LOC RWY 17R, Amdt 1

Louisville, KY, Louisville Intl-Standiford Fld, ILS OR LOC RWY 35L; ILS RWY 35L (CAT II); ILS RWY 35L (CAT III), Amdt 2

Louisville, KY, Louisville Intl-Standiford Fld, ILS OR LOC RWY 35R; ILS RWY 35R (CAT II); ILS RWY 35R (CAT III), Amdt 3

Louisville, KY, Louisville Intl-Standiford Fld, RNAV (GPS) RWY 17L, Orig

Louisville, KY, Louisville Intl-Standiford Fld, RNAV (GPS) RWY 17R, Orig

Louisville, KY, Louisville Intl-Standiford Fld, RNAV (GPS) RWY 35R, Orig

Louisville, KY, Louisville Intl-Standiford Fld, RNAV (GPS) Y RWY 35L, Orig

Louisville, KY, Louisville Intl-Standiford Fld, RNAV (RNP) Z RWY 35L, Orig

Detroit, MI, Willow Run, RNAV (GPS) RWY 9L, Amdt 1

Detroit, MI, Willow Run, RNAV (GPS) RWY 9R, Amdt 1

Detroit, MI, Willow Run, RNAV (GPS) RWY 14, Amdt 1

Owosso, MI, Owosso Community, RNAV (GPS) RWY 10, Amdt 1

Owosso, MI, Owosso Community, RNAV (GPS) RWY 28, Amdt 1

Owosso, MI, Owosso Community, VOR/DME RWY 28, Amdt 1

Jacksonville, NC, Albert J. Ellis, NDB RWY 5, Amdt 8

Jacksonville, NC, Albert J. Ellis, RNAV (GPS) RWY 5, Orig

Oxford, NC, Henderson-Oxford, LOC RWY 6, Amdt 1

Oxford, NC, Henderson-Oxford, NDB RWY 6, Amdt 2

Oxford, NC, Henderson-Oxford, RNAV (GPS) RWY 6, Orig

Oxford, NC, Henderson-Oxford, RNAV (GPS) RWY 24, Orig

Oxford, NC, Henderson-Oxford, Takeoff Minimums and Obstacle DP, Orig

Atlantic City, NJ, Atlantic City International, COPTER ILS OR LOC/DME RWY 13, Amdt 1B

Atlantic City, NJ, Atlantic City International, ILS OR LOC RWY 13, Amdt 8

Atlantic City, NJ, Atlantic City International, ILS OR LOC/DME RWY 31, Orig-A

Atlantic City, NJ, Atlantic City International, RNAV (GPS) RWY 4, Amdt 1A

Atlantic City, NJ, Atlantic City International, RNAV (GPS) RWY 13, Amdt 3

Atlantic City, NJ, Atlantic City International, RNAV (GPS) RWY 31, Amdt 2

Atlantic City, NJ, Atlantic City International, RADAR-1, Amdt 15

Atlantic City, NJ, Atlantic City International, VOR RWY 4, Amdt 15A

Atlantic City, NJ, Atlantic City International, VOR RWY 13, Amt 4A

Atlantic City, NJ, Atlantic City International, VOR RWY 31, Amdt 1

Reno, NV, Reno/Tahoe Intl, RNAV (GPS) X RWY 34L, Amdt 1

Reno, NV, Reno/Tahoe Intl, RNAV (GPS) X RWY 34R, Amdt 1

Reno, NV, Reno/Tahoe Intl, RNAV (GPS) Y RWY 16L, Amdt 1

Reno, NV, Reno/Tahoe Intl, RNAV (GPS) Y RWY 16R, Amdt 1

Reno, NV, Reno/Tahoe Intl, RNAV (GPS) Y RWY 34L, Orig

Reno, NV, Reno/Tahoe Intl, RNAV (GPS) Y RWY 34R, Orig

Reno, NV, Reno/Tahoe Intl, RNAV (RNP) Z RWY 16L, Orig

Reno, NV, Reno/Tahoe Intl, RNAV (RNP) Z RWY 16R, Orig

Reno, NV, Reno/Tahoe Intl, RNAV (RNP) Z RWY 34L, Orig

Reno, NV, Reno/Tahoe Intl, RNAV (RNP) Z RWY 34R, Orig

Hornell, NY, Hornell Muni, Takeoff Minimums and Obstacle DP, Amdt 4

Cleveland, OH, Cleveland-Hopkins Intl, ILS OR LOC RWY 24L, Amdt 20

London, OH, Madison County, GPS RWY 9, Amdt 1, CANCELLED

London, OH, Madison County, GPS RWY 27, Orig, CANCELLED

London, OH, Madison County, NDB RWY 9, Amdt 9

London, OH, Madison County, RNAV (GPS) RWY 9, Orig

London, OH, Madison County, RNAV (GPS) RWY 27, Orig

Portsmouth, OH, Greater Portsmouth Rgnl, GPS RWY 36, Amdt 1B, CANCELLED

Portsmouth, OH, Greater Portsmouth Rgnl, RNAV (GPS) RWY 18, Orig

Portsmouth, OH, Greater Portsmouth Rgnl, RNAV (GPS) RWY 36, Orig

Portsmouth, OH, Greater Portsmouth Rgnl, VOR/DME-A, Amdt 6

Portsmouth, OH, Greater Portsmouth Rgnl, VOR/DME RNAV OR GPS RWY 18, Amdt 6B, CANCELLED

Grove, OK, Grove Muni, RNAV (GPS) RWY 18, Amdt 1

Grove, OK, Grove Muni, Takeoff Minimums and Obstacle DP, Orig

Quakertown, PA, Quakertown, Takeoff Minimums and Obstacle DP, Orig

Fort Worth, TX, Bourland Field, Takeoff Minimums and Obstacle DP, Orig

Plains, TX, Yoakum County, RNAV (GPS) RWY 3, Orig

Plains, TX, Yoakum County, RNAV (GPS) RWY 21, Orig

Taylor, TX, Taylor Muni, Takeoff Minimums and Obstacle DP, Orig

Taylor, TX, Taylor Muni, VOR/DME RWY 17, Amdt 1

Waco, TX, TSTC-Waco, ILS OR LOC RWY 17L, Amdt 12

Waco, TX, TSTC-Waco, Takeoff Minimums and Obstacle DP, Orig

Moses Lake, WA, Grant County Intl, GPS RWY 4, Orig-B, CANCELLED

Moses Lake, WA, Grant County Intl, GPS RWY 14L, Orig-B, CANCELLED

Moses Lake, WA, Grant County Intl, GPS RWY 22, Orig-B, CANCELLED

Moses Lake, WA, Grant County Intl, RNAV (GPS) RWY 4, Orig

Moses Lake, WA, Grant County Intl, RNAV (GPS) RWY 14L, Orig

Moses Lake, WA, Grant County Intl, RNAV (GPS) RWY 22, Orig

Martinsburg, WV, Eastern WV Regional/Shepherd, RNAV (GPS) RWY 8, Orig

Martinsburg, WV, Eastern WV Regional/Shepherd, RNAV (GPS) RWY 26, Orig

Martinsburg, WV, Eastern WV Regional/Shepherd, Takeoff Minimums and Obstacle DP, Amdt 6

Martinsburg, WV, Eastern WV Regional/Shepherd, VOR-A, Amdt 9

On August 7, 2008 (73 FR 458660) the FAA published an Amendment in Docket No. 30620, Amdt No. 3280 to Part 97 of the Federal Aviation Regulations under section 97.31 effective September 25, 2008 which is corrected to read as follows:

Bangore, ME, Bangor Intl, RADAR-1, Amdt 4B

[FR Doc. E8-19514 Filed 9-2-08; 8:45 am]

BILLING CODE 4910-13-P